NATIONAL SCIENCE FOUNDATION

Sunshine Act Meeting

AGENCY HOLDING THE MEETING: National Science Foundation, National Science Board, Task Force on National Workforce Policies for Science & Engineering.

DATE AND TIME: January 30, 2003 2 p.m.-3 p.m. Open Session.

PLACE: The National Science Foundation, Stafford One Building, 4201 Wilson Boulevard, Room 120, Arlington, VA 22230.

STATUS: This meeting will be open to the public.

MATTERS TO BE CONSIDERED:

Thursday, January 30, 2003.

Open Session (2 p.m. to 3 p.m.)

—Discussion of the draft report of the NSB/EHR Task Force on National Workforce Policies for S&E.

FOR INFORMATION CONTACT: Gerard Glaser, Executive Officer, NSB, (703) 292-7000, www.nsf.gov/nsb.

Gerard Glaser,
Executive Officer.

[FR Doc. 03-1668 Filed 1-21-03; 2:12 pm]

BILLING CODE 7555-01-M